DEPARTMENT OF THE INTERIOR

Bureau of Indian Affairs

[167 A2100DD/AAKC001030/A0A501010.999900]

Final Environmental Impact Statement for the Proposed Seminole Tribe of Florida Fee-to-Trust Project, City of Coconut Creek, Broward County, Florida

AGENCY: Bureau of Indian Affairs, Interior.

ACTION: Notice of availability.

SUMMARY: This notice advises the public that the Bureau of Indian Affairs (BIA) as lead agency, with the Seminole Tribe of Florida (STOF), City of Coconut Creek (City), and Broward County (County) serving as cooperating agencies, intends to file a Final Environmental Impact Statement (FEIS) with the U.S. Environmental Protection Agency (EPA) for the Seminole Tribe of Florida Fee-to-Trust Project, City of Coconut Creek, Florida, Broward County, Florida. This notice announces that the FEIS is now available for public review.

DATES: The Record of Decision on the proposed action will be issued on or after 30 days from the date the EPA publishes its Notice of Availability in the Federal Register. Any comments on the FEIS must arrive on or before 30 days following the date the EPA publishes its notice of availability in the Federal Register.

ADDRESSES: You may mail or hand-deliver written comments to Mr. Franklin Keel, Eastern Regional Director, Bureau of Indian Affairs, 545 Marriott Drive, Suite 700, Nashville, Tennessee 37214. Please include your name, return address, and the caption: “FEIS Comments, Seminole Tribe of Florida Fee-to-Trust Project,” on the first page of your written comments.

Locations where the FEIS is Available for Review: The FEIS is available for review at the Broward County Northwest Regional Library located at 3151 University Drive, Coral Springs, Florida 33065, and the City of Coconut Creek City Hall located at 4800 W. Copans Road, Coconut Creek, Florida 33063. The FEIS is also available online at: http://www.seminoleeis.com.

FOR FURTHER INFORMATION CONTACT: Mr. Chester McGhee, Regional Environmental Scientist, Bureau of Indian Affairs, Eastern Region, 545 Marriott Drive, Suite 700, Nashville, Tennessee 37214; fax (615) 564-6701; telephone (615) 564-6830.

SUPPLEMENTARY INFORMATION:

Background: STOF has requested that the Secretary of the Interior acquire approximately 45 acres of Tribal-owned land in Federal trust for STOF in the City of Coconut Creek, Florida. The project site is located northeast of the intersection of U.S. Highway 7/US-441 and Sample Road. The property surrounds on three sides the existing Seminole Coconut Creek Trust Property, currently containing the Coconut Creek Casino. The Proposed Action consists of transferring the 45+ acres of property into Federal trust and the subsequent development of a hotel/resort and other ancillary uses (Proposed Project). At full build-out, the proposed hotel/resort facility would include approximately 47,000 square-feet (sf) of retail space, 54,000 sf of dining, a 2,500 seat showroom, and a 1,000-room hotel. The hotel tower would not exceed 275 feet above ground level. Access to the project site would be provided via one driveway along Sample Road, one driveway along SR-7/US-441, and one driveway along NW 54th Avenue. Alternatives considered in the FEIS include Alternative A—Proposed Project; Alternative B—Reduced Intensity Alternative; and Alternative C —No Action by Federal Government. Environmental issues addressed in the FEIS include geology and soils, water resources, air quality, biological resources, cultural and paleontological resources, socioeconomic conditions (including environmental justice), transportation and circulation, land use, public services, noise, hazardous materials, aesthetics, cumulative effects, and indirect and growth inducing effects.

The BIA serves as the Lead Agency for compliance with the National Environmental Policy Act (NEPA). The BIA held a public scoping meeting for the project on September 15, 2010, at the Coral Springs High School Auditorium, in Coral Springs, Florida. A notice of availability for the Draft EIS was published in the Federal Register on August 31, 2012 (77 FR 53225), and announced a 45-day review period ending on October 15, 2012. A public hearing on the Draft EIS was held on October 9, 2012, in the City of Coconut Creek.

To obtain a compact disk copy of the FEIS, please provide your name and address in writing or by voicemail to Mr. Chester McGhee, Regional Environmental Scientist, Bureau of Indian Affairs, Eastern Regional Office. Contact information is listed above in the FOR FURTHER INFORMATION CONTACT section of this notice. Individual paper copies of the FEIS will be provided upon payment of applicable printing expenses by the requestor for the number of copies requested.

Public Comment Availability: Comments, including names and addresses of respondents, will be available for public review at the BIA mailing address shown in the ADDRESSES section of this notice, during regular business hours, 8:00 a.m. to 4:30 p.m., Monday through Friday, except holidays. Before including your address, telephone number, email address, or other personal identifying information in your comment, you should be aware that your entire comment, including your personal identifying information, may be made publicly available at any time. While you can ask us in your comment to withhold your personal identifying information from public review, we cannot guarantee that we will be able to do so.

Authority: This notice is published pursuant to the Council of Environmental Quality Regulations (40 CFR parts 1500 through 1508) and the Department of the Interior Regulations (43 CFR part 46), implementing the procedural requirements of the NEPA, as amended (42 U.S.C. 4371, et seq.), and is in the exercise of authority delegated to the Assistant Secretary—Indian Affairs by 209 DM 8.

Dated: June 22, 2016.
Lawrence S. Roberts,
Acting Assistant Secretary—Indian Affairs.

[FR Doc. 2016-15429 Filed 6-28-16; 8:45 am]

BILLING CODE 4337-15-P